OFFICE OF MANAGEMENT AND BUDGET

Discount Rates for Cost-Effectiveness Analysis of Federal Programs

AGENCY: Office of Management and Budget.

ACTION: Revisions to Appendix C of OMB Circular No. A-94.

SUMMARY: Office of Management and Budget (OMB) Circular No. A-94 specifies certain discount rates to be updated annually when the interest rate and inflation assumptions used to prepare the Budget of the United States Government are changed. These updated discount rates are found in Appendix C of the Circular and are to be used for cost-effectiveness analysis, including lease-purchase analysis, as specified in the revised Circular. These rates do not apply to regulatory analysis. The revised Appendix C of Circular No. A-94 can be accessed at https://www.whitehouse.gov/wp-content/uploads/2023/12/CircularA-94AppendixC.pdf.

DATES: The revised discount rates will be in effect through December 2024.

FOR FURTHER INFORMATION CONTACT: Jamie Taber, Office of Economic Policy, Office of Management and Budget, 202-395-2515, a94@omb.eop.gov.

Wesley Yin,
Associate Director for Economic Policy, Office of Management and Budget.

[FR Doc. 2023-28727 Filed 12-28-23; 8:45 am]

BILLING CODE 3110-01-P